FEDERAL MARITIME COMMISSION

[Docket No. 00-08]

Safmarine Container Lines N.V. and Safmarine and CMBT Lines N.V. (SCL) Trading as CMBT v. Garden State Spices, Inc.; Notice of Filing of Compliant and Assignment

June 8, 2000.

Notice is given that a complaint was filed by Safmarine Container Lines N.V. (“Safmarine”) and Safmarine and CMBT Lines N.V. (SCL) trading as CMBT (“CMBT”) (“Complainants”) against Garden State Spices, Inc. (“Respondent”). Complainants allege that Respondent violated section 10(a)(1) of the Shipping Act of 1984, 46 U.S.C. app. 1709(a)(1), by knowingly and willfully obtaining transportation for property at less than the properly applicable rates and charges by unjust and unfair devices or means in connection with five shipments carried on a freight collect basis from J.N. Port, India, to New York. Complainants contend that Respondent induced Complainants to relinquish their possessory lien on the cargoes at the port of discharge, based on Respondent tendering checks represented to be full payment of the collect freight and charges, which subsequently “bounced” due to insufficient funds, all to the detrimental reliance of Complainants.

Complainants state that they have been injured to their damage in the sum of $10,625. Complainants request that the Respondent be required to answer these charges; that after due hearing, an order be made commanding Respondents to pay reparations of $10,625 with interest from the respective dates of injury and attorney's fees or such other sum as the Commission may determine to be proper as an award of reparation.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by June 8, 2001, and the final decision of the Commission shall be issued by October 9, 2001.

Bryant L. VanBrakle,
Secretary.

[FR Doc. 00-15058 Filed 6-13-00; 8:45 am]

BILLING CODE 6730-01-M